Memorandum of February 3, 2010

A Comprehensive Federal Strategy on Carbon Capture and Storage

Memorandum for the Secretary of State[,] the Secretary of the Treasury[,] the Attorney General[,] the Secretary of the Interior[,] the Secretary of Agriculture[,] the Secretary of Commerce[,] the Secretary of Labor[,] the Secretary of Transportation[,] the Secretary of Energy[,] the Director of the Office of Management and Budget[,] the Administrator of the Environmental Protection Agency[,] the Chairman of the Federal Energy Regulatory Commission[,] the Director of the Office of Science and Technology Policy[, and] the Chair of the Council on Environmental Quality

For decades, the coal industry has supported quality high-paying jobs for American workers, and coal has provided an important domestic source of reliable, affordable energy. At the same time, coal-fired power plants are the largest contributor to U.S. greenhouse gas emissions and coal accounts for 40 percent of global emissions. Charting a path toward clean coal is essential to achieving my Administration's goals of providing clean energy, supporting American jobs, and reducing emissions of carbon pollution. Rapid commercial development and deployment of clean coal technologies, particularly carbon capture and storage (CCS), will help position the United States as a leader in the global clean energy race.

My Administration is already pursuing a set of concrete initiatives to speed the commercial development of safe, affordable, and broadly deployable CCS technologies. We have made the largest Government investment in carbon capture and storage of any nation in history, and these investments are being matched by private capital. The Department of Energy is conducting a comprehensive clean coal technology program including research, development, and demonstration of CCS technologies and is pursuing important international cooperative initiatives to spur demonstration and deployment of CCS. The Environmental Protection Agency is developing regulations that address the safety, efficacy, and environmental soundness of injecting and storing carbon dioxide underground. The Department of the Interior is assessing, in coordination with the Department of Energy, the country's geologic capacity to store carbon dioxide and promoting geological storage demonstration projects on public lands. All of this work builds on the firm scientific basis that now exists for the viability of CCS technology.

To further this work and develop a comprehensive and coordinated Federal strategy to speed the commercial development and deployment of clean coal technologies, I hereby establish an Interagency Task Force on Carbon Capture and Storage (Task Force). You shall each designate a senior official from your respective agency to serve on the Task Force, which shall be Co-Chaired by the designees from the Department of Energy and the Environmental Protection Agency.

The Task Force shall develop within 180 days of the date of this memorandum a proposed plan to overcome the barriers to the widespread, cost-effective deployment of CCS within 10 years, with a goal of bringing 5 to 10 commercial demonstration projects online by 2016. The plan should explore incentives for commercial CCS adoption and address any financial, economic, technological, legal, institutional, social, or other barriers to deployment. The Task Force should consider how best to coordinate existing administrative authorities and programs, including those that build international collaboration on CCS, as well as identify areas where additional administrative authority may be necessary. The Co-Chairs shall report progress periodically to the President through the Chair of the Council on Environmental Quality.

Ultimately, comprehensive energy and climate legislation that puts a cap on carbon pollution will provide the largest incentive for CCS because it will create stable, long-term, market-based incentives to channel private investment in low-carbon technologies. My Administration's new CCS strategy will pave the way for this energy transition by identifying and removing barriers to rapid commercial deployment and by providing greater legal and regulatory clarity. This will help to spur private investment in CCS in the near term—investment that will create good jobs and benefit communities.

This memorandum shall be implemented consistent with applicable law and subject to the availability of appropriations. This memorandum is not intended to, and does not, create any right or benefit, substantive or procedural, enforceable at law or in equity by any party against the United States, its departments, agencies, or entities, its officers, employees, or agents, or any other person.

The Secretary of Energy is hereby authorized and directed to publish this memorandum in the Federal Register.

THE WHITE HOUSE,

WASHINGTON, February 3, 2010

[FR Doc. 2010-2744

Filed 2-4-10; 11:15 am]

Billing code 6450-01-P